INTERNATIONAL TRADE COMMISSION

[Investigation No. 337-TA-734]

In the Matter of Certain Adjustable-Height Beds and Components Thereof; Notice of Commission Decision Not To Review an Initial Determination Granting a Joint Motion To Terminate the Investigation Based on a Settlement Agreement and Consent Order

AGENCY: U.S. International Trade Commission.

ACTION: Notice.

SUMMARY: Notice is hereby given that the U.S. International Trade Commission has determined not to review an initial determination (“ID”) (Order No. 21) issued by the presiding administrative law judge (“ALJ”) granting a joint motion to terminate the above-captioned investigation based on a settlement agreement and consent order.

FOR FURTHER INFORMATION CONTACT: Daniel E. Valencia, Office of the General Counsel, U.S. International Trade Commission, 500 E Street, SW., Washington, DC 20436, telephone (202) 205-1999. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on September 9, 2010, based on a complaint filed by Invacare Corporation of Elyria, Ohio (“Invacare”). 75 FR. 54911. The complaint alleges violations of section 337 of the Tariff Act of 1930 (19 U.S.C. 1337) in the importation into the United States, the sale for importation, and the sale within the United States after importation of certain adjustable-height beds and components thereof by reason of infringement of various United States Patents. The original complaint named Medical Depot, Inc., of Port Washington, New York d/b/a Drive Medical Design and Manufacturing and Shanghai Shunlong Physical Therapy Equipment Co., Ltd. of China as respondents (collectively, “the respondents”).

On March 31, 2011, Invacare and the respondents filed a joint motion to terminate the investigation based on a consent order and settlement agreement. The Commission investigative attorney supported the motion.

On April 14, 2011, the ALJ issued the subject ID granting the joint motion to terminate the investigation. No petitions for review of the ID were filed. The Commission has determined not to review the ALJ's ID.

The authority for the Commission's determination is contained in section 337 of the Tariff Act of 1930, as amended (19 U.S.C. 1337), and in section 210 of the Commission's Rules of Practice and Procedure (19 CFR 210).

By order of the Commission.
Issued: May 4, 2011.
James R. Holbein,
Acting Secretary to the Commission.

[FR Doc. 2011-11195 Filed 5-6-11; 8:45 am]

BILLING CODE P